DEPARTMENT OF HOMELAND SECURITY

U.S. Customs and Border Protection

[OMB Control Number 1651-0140]

Agency Information Collection Activities; Emergency Revision; Collection of Advance Information From Certain Undocumented Individuals on the Land Border

AGENCY: U.S. Customs and Border Protection (CBP), Department of Homeland Security (DHS).

ACTION: General notice.

SUMMARY: The Department of Homeland Security (DHS), U.S. Customs and Border Protection (CBP) will be submitting the following information collection request to the Office of Management and Budget (OMB) for emergency review and approval in accordance with the Paperwork Reduction Act of 1995 (PRA). CBP is requesting OMB approve this emergency revision by Friday, August 23, 2024.

SUPPLEMENTARY INFORMATION:

Overview of This Information Collection

Title: Collection of Advance Information from Certain Undocumented Individuals on the Land Border

OMB Number: 1651-0140

Abstract: The emergency clearance requested will allow CBP to make certain changes to this information collection, allow the Government of Mexico access to a tool which will permit certain Government of Mexico personnel to validate an individual's CBP One appointment and change the locations in Mexico from which individuals can request appointments via CBP One. These changes are needed to ensure that the process remains a safe, orderly, and humane way to manage migration in the region; and respond to requests from the Government of Mexico—a critical regional partner in these efforts. During the next renewal or revision, CBP will seek public comment as stipulated under 5 CFR 1320.5(d) of the Paperwork Reduction Act.

Dated: August 19, 2024.
Seth D Renkema,
Branch Chief, Economic Impact Analysis Branch, U.S. Customs and Border Protection.

[FR Doc. 2024-18847 Filed 8-21-24; 8:45 am]

BILLING CODE 9111-14-P